DEPARTMENT OF TRANSPORTATION

Office of the Secretary of Transportation

[Docket No. DOT-OST-2022-0082]

Notice of Funding Opportunity To Establish Cooperative Agreements With Technical Assistance Providers for the Fiscal Year 2022 Thriving Communities Program; Correction

AGENCY: Office of the Secretary of Transportation, U.S. Department of Transportation (DOT).

ACTION: Notice of funding opportunity, correction.

SUMMARY: The Department of Transportation is correcting a notice published on October 19, 2022 issue of the Federal Register entitled “Notice of Funding Opportunity to Establish Cooperative Agreements with Technical Assistance Providers for the Fiscal year 2022 Thriving Communities Program”. This notice extends the deadline date and makes minor technical corrections to the NOFO document.

SUPPLEMENTARY INFORMATION:

Corrections

In the Federal Register Notice of October 19, 2022, on page 63572, in the first column in the DATES section, the sentence, “The deadline for application submission is 11:59 p.m. Eastern Time on November 22, 2022.” is corrected to read: “The deadline for application submission is 11:59 p.m. Eastern Time on November 29, 2022.”

In the Federal Register Notice of October 19, 2022, on page 63572, in the first column in the ACTION section, “Notice of Funding Opportunity (NOFO), Assistance Listing # 20.942 (tentative)”, is corrected to remove the word “tentative” since the Assistance Listing # 20.942 is no longer tentative and is confirmed in SAM.gov.

In the Federal Register Notice of October 19, 2022, on page 63572, in the first column in the ADDRESSES section, the sentence, “Applications must be submitted through https://www.grants.gov. Opportunity number DOT-TCP-FY22-01 (expected live date is the week of October 17, 2022).” is corrected to remove the wording “expected live date is the week of October 17, 2022”, since the Opportunity number is live on grants.gov.

In the Federal Register Notice of October 19, 2022, on page 63576, in the third column in section 2. Content and Form of Application Submission, in the table under Forms and Supporting Documentation, “Unique Identifier and System for Award Management (SAM)” is corrected to read, “Unique Entity Identifier and System for Award Management (SAM).”

In the Federal Register Notice of October 19, 2022, on page 63577, in the third column in section c. Applicant Expertise, Staffing, and Project Management Plan, in the second paragraph, the sentence, “Resumes do not count against the page limit.” is corrected to read, “Resumes and the one-page organization or company profile do not count against the page limit.”

Issued in Washington, DC, on November 4, 2022.
Christopher Coes,
Assistant Secretary for Transportation Policy, Department of Transportation.

[FR Doc. 2022-24654 Filed 11-10-22; 8:45 am]

BILLING CODE 4910-9P-P